DEPARTMENT OF THE INTERIOR

Bureau of Land Management

[CA-320-1820-XQ]

Notice of Resource Advisory Council Meeting

AGENCY: Bureau of Land Management, Northeast California Resource Advisory Council, Alturas, California, DOI.

ACTION: Notice of meeting.

SUMMARY: Pursuant to the authorities in the Federal Advisory Committees Act (Public Law 92-463) and the Federal Land Policy and Management Act (Public Law 94-579), the U.S. Bureau of Land Management's Northeast California Resource Advisory Council will meet Wednesday and Thursday, June 28 and 29, 2000, at the Veterans Memorial Hall, 500 Main St., Alturas, California. On Wednesday, the council will tour the Cedar Creek project area, and on Thursday, the council convenes in a regular business session. Both the tour and meeting are open to the public. Members of the public attending the tour must provide their own four-wheel-drive transportation and beverages. A barbecue lunch will be available for a fee.

SUPPLEMENTARY INFORMATION: Members of the council and interested members of the public will meet at Wednesday at 9 a.m. at the Likely Fire Station in Likely, California, and depart immediately for the tour. The group will complete the tour and return to Alturas, California by about 6 p.m.

On Thursday, the meeting begins at 8 a.m. Agenda items include discussion of the BLM's development of an off-highway vehicle management strategy, review of off-highway vehicle guidelines developed by a RAC subcommittee, discussion of juniper management, review of BLM-California's proposed landscape publications, and discussion of emerging issues for the BLM. Time will be set aside for public comments at 10:45 a.m. Members of the public interested in off-highway vehicle management on public lands are encouraged to attend the meeting to provide comments to the advisory council, which will be forwarding comments to BLM's leadership. These public comments will help the BLM develop a resource management strategy for management of off highway vehicle use. The strategy will recognize the interests of OHV users, while providing resource protection. Depending on the number of persons wishing to speak, a time limit may be established.

FOR FURTHER INFORMATION CONTACT: Tim Burke, Alturas field manager, (530) 233-4666, or Public Affairs Officer Jeff Fontana at (530) 257-5381.

Joseph J. Fontana,
Public Affairs Officer.

[FR Doc. 00-13692 Filed 5-31-00; 8:45 am]

BILLING CODE 4310-40-P